DEPARTMENT OF TRANSPORTATION

Federal Aviation Administration

14 CFR Part 39

[Docket No. 2000-NM-248-AD; Amendment 39-11838; AD 90-15-12 R1]

RIN 2120-AA64

Airworthiness Directives; Boeing Model 727 Series Airplanes Modified in Accordance with Valsan Supplemental Type Certificate (STC) SA4363NM

AGENCY: Federal Aviation Administration, DOT.

ACTION: Final rule; request for comments.

SUMMARY: This amendment revises an existing airworthiness directive (AD), applicable to Boeing Model 727 series airplanes modified by the installation of Pratt and Whitney JT8D-217C or -219 engines in accordance with Valsan STC SA4363NM, that currently requires repetitive inspections of the through-bolt nut for proper torque and for certain other conditions of the through-bolt and nut, and replacement, if necessary. That AD also requires the installation of anti-rotation plates, which constitutes terminating action for the repetitive inspections. This amendment changes the responsible office for approval of an alternative method of compliance. This amendment is prompted by the transfer of the supplemental type certificate. The actions specified in this AD are intended to prevent the nut coming off the through-bolt allowing the through-bolt to migrate out of the engine mount flange and cone bolt and possible separation of the engine.

DATES: Effective August 15, 2000.

Comments for inclusion in the Rules Docket must be received on or before September 29, 2000.

ADDRESSES: Submit comments in triplicate to the Federal Aviation Administration (FAA), Transport Airplane Directorate, ANM-114, Attention: Rules Docket No. 2000-NM-248-AD, 1601 Lind Avenue, SW., Renton, Washington 98055-4056. The information concerning this amendment may be obtained from or examined at the Federal Aviation Administration (FAA), Transport Airplane Directorate, 1601 Lind Avenue, SW., Renton, Washington. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2000-NM-248-AD” in the subject line and need not be submitted in triplicate. Comments sent via the Internet as attached electronic files must be formatted in Microsoft Word 97 for Windows or ASCII text.

FOR FURTHER INFORMATION CONTACT: Michael E. O'Neil, Aerospace Engineer, Airframe Branch, ANM-120L, FAA, Transport Airplane Directorate, Los Angeles Aircraft Certification Office, 3960 Paramount Boulevard, Lakewood, California 90712-4137; telephone (562) 627-5320; fax (562) 627-5210.

SUPPLEMENTARY INFORMATION: On July 6, 1990, the FAA issued AD 90-15-12, amendment 39-6663 (55 FR 29005, July 17, 1990), applicable to Boeing Model 727 series airplanes modified by the installation of Pratt and Whitney JT8D-217C or -219 engines in accordance with Valsan STC SA4363NM, to require repetitive inspections of the through-bolt nut for proper torque and for certain other conditions of the through-bolt and nut, and replacement, if necessary. That AD also requires the installation of anti-rotation plates, which constitutes terminating action for the repetitive inspections. The actions required by that AD are intended to prevent the nut coming off the through-bolt allowing the through-bolt to migrate out of the engine mount flange and cone bolt and possible separation of the engine.

Actions Since Issuance of Previous Rule

Since the issuance of that AD, the FAA has transferred the supplemental type certificate data from the Seattle Aircraft Certification Office (ACO) to the Los Angeles ACO. Therefore, the FAA has determined it is necessary to issue this AD to require that all future alternative methods of compliance and adjustments of compliance time be approved by the Manager of the Los Angeles ACO.

Explanation of Requirements of Rule

Since an unsafe condition has been identified that is likely to exist or develop on other airplanes of this same type design, this AD revises AD 90-15-12 to continue to require repetitive inspections of the through-bolt nut for proper torque and for certain other conditions of the through-bolt and nut, and replacement, if necessary. This AD also continues to require the installation of anti-rotation plates, which constitutes terminating action for the repetitive inspections. This AD changes the responsible office for approval of an alternative method of compliance.

Determination of Rule's Effective Date

Since this AD is a minor and merely technical amendment in which the public is not particularly interested, and does not change the existing requirements, it is found that notice and opportunity for prior public comment hereon are unnecessary and that good cause exists for making this amendment effective in less than 30 days.

Comments Invited

Although this action is in the form of a final rule that is a minor and merely technical amendment and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-248-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that notice and comment hereon are unnecessary because this is a minor and merely technical amendment in which the public is not particularly interested.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-6663 (55 FR 29005, July 17, 1990), and by adding a new airworthiness directive (AD), amendment 39-11838, to read as follows:

90-15-12 R1 Boeing: Amendment 39-11838. Docket 2000-NM-248-AD. Revises AD 90-15-12, Amendment 39-6663.

Applicability: Model 727 series airplanes, modified by installation of Pratt and Whitney JT8D-217C or −219 engines in accordance with Valsan Supplemental Type Certificate (STC) SA4363NM, certificated in any category.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously. To prevent the nut coming off the through-bolt allowing the through-bolt to migrate out of the engine mount flange and cone bolt and possible separation of the engine, accomplish the following:

Inspection/Corrective Action

(a) Within 48 clock hours (not flight hours) after receipt of Telegraphic AD T90-11-53, dated May 24, 1990, inspect the through-bolt nut, part number SPS83978-1216, for proper torque and for certain conditions as specified in Valsan Operator Service Letter OSL-727RE-007, Revision 1, dated May 23, 1990, in accordance with the service letter. If any discrepancies are found, prior to further flight, take corrective action in accordance with the service letter.

(b) Repeat the inspections required by paragraph (a) of this AD thereafter at intervals not to exceed 35 flight hours.

Reporting Requirement

(c) Within 10 days after performing the inspection required by paragraph (a) of this AD, submit a report of any discrepancies discovered to the Manager, Los Angeles Manufacturing Inspection District Office, 3960 Paramount Boulevard, Lakewood, California 90712-4137. The report must include the airplane's serial number.

Installation

(d) Within 60 days after July 31, 1990 (the effective date of AD 90-15-12, amendment 39-6663), install anti-rotation plates in accordance with Valsan Service Bulletin 71-002, dated June 1, 1990. This modification constitutes terminating action for the repetitive inspections required by paragraph (a) and (b) of this AD.

Alternative Methods of Compliance

(e) An alternative method of compliance or adjustment of the compliance time that provides an acceptable level of safety may be used if approved by the Manager, Los Angeles Aircraft Certification Office (ACO), FAA, Transport Airplane Directorate. Operators shall submit their requests through an appropriate FAA Principal Maintenance Inspector, who may add comments and then send it to the Manager, Los Angeles ACO.

Note 2: Information concerning the existence of approved alternative methods of compliance with this AD, if any, may be obtained from the Los Angeles ACO.

Special Flight Permits

(f) Special flight permits may be issued in accordance with sections 21.197 and 21.199 of the Federal Aviation Regulations (14 CFR 21.197 and 21.199) to operate the airplane to a location where the requirements of this AD can be accomplished.

(g) This amendment becomes effective on August 15, 2000.

Issued in Renton, Washington, on July 25, 2000.
Donald L. Riggin,
Acting Manager, Transport Airplane Directorate, Aircraft Certification Service.

[FR Doc. 00-19261 Filed 7-28-00; 8:45 am]

BILLING CODE 4910-13-U